DEPARTMENT OF ENERGY

Federal Energy Regulatory Commission

Combined Notice of Filings #1

Take notice that the Commission received the following electric corporate filings:

Docket Numbers: EC23-36-000.

Applicants: NextEra Energy Resources, LLC, North American Sustainable Energy Fund, L.P., Energy Power Investment Company, LLC, EPP Renewable Energy, LLC.

Description: Supplement to December 9, 2022, Joint Application for Authorization Under Section 203 of the Federal Power Act of NextEra Energy Resources, LLC.

Filed Date: 2/14/23.

Accession Number: 20230214-5196.

Comment Date: 5 p.m. ET 2/24/23.

Take notice that the Commission received the following exempt wholesale generator filings:

Docket Numbers: EG23-81-000.

Applicants: SR Snipesville III, LLC.

Description: SR Snipesville III, LLC submits Notice of Self-Certification of Exempt Wholesale Generator Status.

Filed Date: 2/14/23.

Accession Number: 20230214-5186.

Comment Date: 5 p.m. ET 3/7/23.

Docket Numbers: EG23-82-000.

Applicants: SR McNeal, LLC.

Description: SR McNeal, LLC submits Notice of Self-Certification of Exempt Wholesale Generator Status.

Filed Date: 2/14/23.

Accession Number: 20230214-5188.

Comment Date: 5 p.m. ET 3/7/23.

Take notice that the Commission received the following electric rate filings:

Docket Numbers: ER23-696-001.

Applicants: PJM Interconnection, L.L.C.

Description: Tariff Amendment: Request to Defer Action-Original ISA No. 6717; Queue NQ182; Docket ER23-696 to be effective 12/31/9998.

Filed Date: 2/15/23.

Accession Number: 20230215-5087.

Comment Date: 5 p.m. ET 3/8/23.

Docket Numbers: ER23-755-001.

Applicants: PJM Interconnection, L.L.C.

Description: Tariff Amendment: Amendment of NSA, SA No. 6723; Queue No. AC2-154/AD2-060 in Docket No. ER23-755 to be effective 11/30/2022.

Filed Date: 2/15/23.

Accession Number: 20230215-5033.

Comment Date: 5 p.m. ET 3/8/23.

Docket Numbers: ER23-1114-000.

Applicants: American Kings Solar, LLC.

Description: Petition for Limited Waiver of American Kings Solar, LLC.

Filed Date: 2/14/23.

Accession Number: 20230214-5198.

Comment Date: 5 p.m. ET 2/24/23.

Docket Numbers: ER23-1115-000.

Applicants: Niagara Mohawk Power Corporation, New York Independent System Operator, Inc.

Description: § 205(d) Rate Filing: Niagara Mohawk Power Corporation submits tariff filing per 35.13(a)(2)(iii: NYISO-National Grid Joint 205: Amended SGIA SunEast Fairway Solar Project SA2647 to be effective 2/3/2023.

Filed Date: 2/15/23.

Accession Number: 20230215-5026.

Comment Date: 5 p.m. ET 3/8/23.

Docket Numbers: ER23-1116-000.

Applicants: American Transmission Systems, Incorporated, PJM Interconnection, L.L.C.

Description: § 205(d) Rate Filing: American Transmission Systems, Incorporated submits tariff filing per 35.13(a)(2)(iii: ATSI submits one Construction Agreement, SA No. 5938 to be effective 4/17/2023.

Filed Date: 2/15/23.

Accession Number: 20230215-5034.

Comment Date: 5 p.m. ET 3/8/23.

Docket Numbers: ER23-1117-000.

Applicants: Ameren Illinois Company, Midcontinent Independent System Operator, Inc.

Description: § 205(d) Rate Filing: Ameren Illinois Company submits tariff filing per 35.13(a)(2)(iii: 2023-02-15_SA 3028 Ameren IL-Prairie Power Project #37 Clifton to be effective 4/17/2023.

Filed Date: 2/15/23.

Accession Number: 20230215-5059.

Comment Date: 5 p.m. ET 3/8/23.

Docket Numbers: ER23-1118-000.

Applicants: Alabama Power Company.

Description: § 205(d) Rate Filing: Southeast EEM Agreement Market Rules Revisions Filing (Appendix B) to be effective 2/16/2023.

Filed Date: 2/15/23.

Accession Number: 20230215-5074.

Comment Date: 5 p.m. ET 3/8/23.

Docket Numbers: ER23-1119-000.

Applicants: Southwest Power Pool, Inc.

Description: § 205(d) Rate Filing: Revisions to Add Clarification to Attachment AO (RR 522) to be effective 4/17/2023.

Filed Date: 2/15/23.

Accession Number: 20230215-5090.

Comment Date: 5 p.m. ET 3/8/23.

Docket Numbers: ER23-1120-000.

Applicants: Nevada Cogeneration Associates #1.

Description: Baseline eTariff Filing: Application for Market Based Rate Authority to be effective 5/1/2023.

Filed Date: 2/15/23.

Accession Number: 20230215-5112.

Comment Date: 5 p.m. ET 3/8/23.

Docket Numbers: ER23-1121-000.

Applicants: Wagon Wheel Wind Project, LLC.

Description: § 205(d) Rate Filing: Revised Market-Based Rate Tariff to be effective 4/17/2023.

Filed Date: 2/15/23.

Accession Number: 20230215-5114.

Comment Date: 5 p.m. ET 3/8/23.

Docket Numbers: ER23-1122-000.

Applicants: Diversion Wind Energy LLC.

Description: § 205(d) Rate Filing: Revised Market-Based Rate Tariff Filing to be effective 4/17/2023.

Filed Date: 2/15/23.

Accession Number: 20230215-5116.

Comment Date: 5 p.m. ET 3/8/23.

Docket Numbers: ER23-1123-000.

Applicants: Portland General Electric Company.

Description: § 205(d) Rate Filing: Amendments To The PGE OATT Attachment P to be effective 4/16/2023.

Filed Date: 2/15/23.

Accession Number: 20230215-5125.

Comment Date: 5 p.m. ET 3/8/23.

Docket Numbers: ER23-1124-000.

Applicants: Public Service Company of Colorado.

Description: § 205(d) Rate Filing: 2023-02-15 TSGT WAPA BAMA Reunion 727-PSCo to be effective 4/16/2023.

Filed Date: 2/15/23.

Accession Number: 20230215-5154.

Comment Date: 5 p.m. ET 3/8/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 15, 2023.
Debbie-Anne A. Reese,
Deputy Secretary.

[FR Doc. 2023-03631 Filed 2-21-23; 8:45 am]

BILLING CODE 6717-01-P